DEPARTMENT OF LABOR

Employment and Training Administration

[TA-W-70,048]

Symantec Corporation, Symantec Accounts Payable/Expense Reporting Team, Finance Department, Including On-Site Leased Workers From Pro Unlimited, Inc., Springfield, OR; Amended Certification Regarding Eligibility To Apply for Worker Adjustment Assistance

In accordance with Section 223 of the Trade Act of 1974, as amended (“Act”), 19 U.S.C. 2273, the Department of Labor issued a Certification of Eligibility to Apply for Worker Adjustment Assistance on July 21, 2009, applicable to workers of Symantec Corporation, Symantec Accounts Payable/Expense Reporting Team, Finance Department, Springfield, Oregon. The notice will be published soon in the Federal Register.

At the request of the State Agency, the Department reviewed the certification for workers of the subject firm. The workers provide computer software and software related services.

The company reports that on-site leased workers from Pro Unlimited, Inc. were employed on-site at the Springfield, Oregon location of Symantec Corporation, Symantec Accounts Payable/Expense Reporting Team, Finance Department. The Department has determined that these workers were sufficiently under the control of the subject firm to be considered leased workers.

Based on these findings, the Department is amending this certification to include workers leased from Pro Unlimited, Inc. working on-site at the Springfield, Oregon location of Symantec Corporation, Symantec Accounts Payable/Expense Reporting Team, Finance Department.

The amended notice applicable to TA-W-70,048 is hereby issued as follows:

All workers of Symantec Corporation, Symantec Accounts Payable/Expense Reporting Team, Finance Department, including on-site leased workers from Pro Unlimited, Springfield, Oregon, who became totally or partially separated from employment on or after May 18, 2008, through July 21, 2011, and all workers in the group threatened with total or partial separation from employment on July 21, 2009 through July 21, 2011, are eligible to apply for adjustment assistance under Chapter 2 of Title II of the Trade Act of 1974, as amended.

Signed at Washington, DC, this 25th day of August 2009.
Richard Church,
Certifying Officer, Division of Trade Adjustment Assistance.

[FR Doc. E9-22767 Filed 9-21-09; 8:45 am]

BILLING CODE 4510-FN-P